COMMITTEE FOR PURCHASE FROM PEOPLE WHO ARE BLIND OR SEVERELY DISABLED

Procurement List; Proposed Additions and Deletions

AGENCY: Committee for Purchase From People Who Are Blind Or Severely Disabled.

ACTION: Proposed additions to and deletions from Procurement List.

SUMMARY: The Committee is proposing to add to the Procurement List a product and services to be furnished by nonprofit agencies employing persons who are blind or have other severe disabilities, and to delete services previously furnished by such agencies.

Comments Must Be Received On Or Before: October 30, 2005.

ADDRESS: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following products and services are proposed for addition to Procurement List for production by the nonprofit agencies listed:

Product

Mat, Floor Rubber

NSN: 2540-01-298-8449—61″ x 36″ fabricated mat, reinforced with steel wire

NPA: Hope Haven, Inc., Rock Valley, Iowa

Contracting Activity: Defense Supply Center Columbus, Columbus, Ohio

Services

Service Type/Location: Appliance Cleaning Service, Department of Homeland Security, National Records Center, 150 Space Center Loop, Lee's Summit, Missouri

NPA: Independence and Blue Springs Industries, Inc., Independence, Missouri

Contracting Activity: DHS—Burlington Contracting Office, South Burlington, Vermont

Service Type/Location: Custodial, Warehousing, Shelf Stocking, Defense Commissary Agency, Hurlburt Field Commissary, Fort Walton Beach, Florida

NPA: Brevard Achievement Center, Inc., Rockledge, Florida

Contracting Activity: Defense Commissary Agency (DeCA), Fort Lee, Virginia

Service Type/Location: Hazmart Support Services, Building #2250, Fort George G. Meade, Maryland

NPA: Blind Industries & Services of Maryland, Baltimore, Maryland

Contracting Activity: Department of the Army, Director of Contracting, Fort Meade, Maryland

Service Type/Location: Janitorial/Custodial, USDA, Animal and Plant Health Inspection Service/PPQ, Asian Longhorn Beetle Project 3920 N. Rockwell, Chicago, Illinois

NPA: Habilitative Systems, Inc., Chicago, Illinois

Contracting Activity: USDA, Animal & Plant Health Inspection Service, Minneapolis, Minnesota

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type Location: Base Supply Center, Bangor Naval Submarine Base, Bangor, Washington

NPA: Peninsula Services, Bremerton, Washington

Contracting Activity: Fleet and Industrial Supply Center, Puget Sound, Washington

Service Type/Location: Operation of SERVEMART, Everett Naval Station, Washington

NPA: Peninsula Services, Bremerton, Washington

Contracting Activity: Fleet and Industrial Supply Center, Puget Sound, Washington

Service Type/Location: Base Supply Center, Whidbey Island Naval Air Station Oak Harbor, Washington

NPA: Peninsula Services, Bremerton, Washington

Contracting Activity: Fleet and Industrial Supply Center, Puget Sound, Washington

Sheryl D. Kennerly,
Director, Information Management.

[FR Doc. E5-5336 Filed 9-29-05; 8:45 am]

BILLING CODE 6353-01-P